DEPARTMENT OF COMMERCE

Foreign-Trade Zones Board

[A(32b)-1-2011]

Foreign-Trade Zone 203—Moses Lake, Washington, Export-Only Manufacturing Authority, SGL Automotive Carbon Fibers, LLC, (Carbon Fiber); Notice of Temporary Approval

On January 4, 2011, an application was submitted by the Port of Moses Lake Public Corporation, grantee of Foreign-Trade Zone (FTZ) 203, requesting authority on behalf of SGL Automotive Carbon Fibers, LLC (SGL) to manufacture carbon fiber under FTZ procedures solely for export within Site 3 of FTZ 203 in Moses Lake, Washington. The request was given notice in the Federal Register inviting public comment (Docket 4-2011, 76 FR 1599, 1/11/2011).

Section 400.32(b)(1)(ii) of the FTZ Board's regulations (15 CFR part 400) allows the Assistant Secretary for Import Administration to act for the Board in making decisions on new manufacturing authority when the activity would be for export only. Pursuant to that regulatory provision, on May 13, 2011, the Assistant Secretary for Import Administration approved authority for SGL's export-only manufacturing activity for a two-year period (until May 13, 2013), subject to the FTZ Act (19 U.S.C. 81a-81u) and the Board's regulations, including Section 400.28.

For any potential approval by the FTZ Board of authority beyond the initial two-year period, the SGL application is continuing to be processed under Docket 4-2011, including the conduct of an industry survey pursuant to 15 CFR 400.27(d)(3)(vi).

Dated: May 20, 2011.
Andrew McGilvray,
Executive Secretary.

[FR Doc. 2011-13271 Filed 5-26-11; 8:45 am]

BILLING CODE 3510-DS-P